DEPARTMENT OF AGRICULTURE

Animal and Plant Health Inspection Service

[Docket No. APHIS-2015-0006]

Hot Water Treatment of Oversized Mangoes; Correction

AGENCY: Animal and Plant Health Inspection Service, USDA.

ACTION: Notice; Correction.

SUMMARY: We are correcting an error in a notice announcing the availability of a revision to hot water treatment schedule T102-a to treat additional mango commodities. The notice was published in the Federal Register on April 23, 2015.

FOR FURTHER INFORMATION CONTACT: Dr. Inder P.S. Gadh, Senior Risk Manager-Treatments, PPQ, APHIS, 4700 River Road Unit 133, Riverdale, MD 20737-1231; (301) 851-2018.

SUPPLEMENTARY INFORMATION: In a notice ¹ published in the Federal Register on April 23, 2015 (80 FR 22702-22703, Docket No. APHIS-2015-0006), we amended hot water treatment schedule T102-a in the Plant Protection and Quarantine Treatment Manual to extend the applicability of the treatment to additional mango (Mangifera indica) commodities.

¹ To view the notice and related documents, go to http://www.regulations.gov/#!docketDetail;D=APHIS-2015-0006.

In the notice, we stated that that the T102-a treatment schedule of 110-minute fruit immersion in a constant 70 °F (41.6 °C) hot-water bath is an efficacious phytosanitary treatment for eggs and larvae of Ceratitis capitata and Anastrepha spp. fruit flies in mangoes weighing 651 to 900 grams. The temperature should read 115 °F (46.1 °C).

Done in Washington, DC, this 1st day of June 2015.
Kevin Shea,
Administrator, Animal and Plant Health Inspection Service.

[FR Doc. 2015-13780 Filed 6-4-15; 8:45 am]

BILLING CODE 3410-34-P